DEPARTMENT OF STATE

[Delegation of Authority: 428]

Delegation of Authority To Concur With the Provision of Support for the Conduct of Operations

By virtue of the authority vested in the Secretary of State by the laws of the United States, including section 1 of the State Department Basic Authorities Act (22 U.S.C. 2651a) and 10 U.S.C. 331, I hereby delegate to the Assistant Secretary for Political-Military Affairs, to the extent authorized by law, the authority to concur with Secretary of Defense support and capacity building for the conduct of certain designated counterterrorism and combined operations pursuant to 10 U.S.C. 331.

Notwithstanding this delegation of authority, any function or authority delegated herein may be exercised by the Secretary, a Deputy Secretary, the Under Secretary for Arms Control and International Security, or by other senior Department officials pursuant to a delegation of authority. Any reference in this delegation of authority to any statute or delegation of authority shall be deemed to be a reference to such statute or delegation of authority as amended from time to time.

This delegation of authority shall be published in the Federal Register.

Dated: May 4, 2017.
Rex W. Tillerson,
Secretary of State.

[FR Doc. 2017-12204 Filed 6-12-17; 8:45 am]

BILLING CODE 4710-25-P